DEPARTMENT OF DEFENSE

48 CFR Part 201

Defense Federal Acquisition Regulation Supplement; Electronic Publication of DFARS

CFR Correction

In Title 48 of the Code of Federal Regulations, Chapter 2 (Parts 201 to 299), revised as of October 1, 2008, on page 10, in section 201.304, reinstate paragraph (6) to read as follows:

201.304 Agency control and compliance procedures.

* * * * *

(6) The Director of Defense Procurement publishes changes to the DFARS in the Federal Register and electronically via the World Wide Web. Each change includes an effective date. Unless guidance accompanying a change states otherwise, contracting officers must include any new or revised clauses, provisions, or forms in solicitations issued on or after the effective date of the change.

[FR Doc. E9-23476 Filed 9-28-09; 8:45 am]

BILLING CODE 1505-01-D